DEPARTMENT OF TRANSPORTATION

Federal Aviation Administration

Seventh Meeting: RTCA Special Committee 203/Minimum Performance Standards for Unmanned Aircraft Systems and Unmanned Aircraft

AGENCY: Federal Aviation Administration (FAA), DOT.

ACTION: Notice of RTCA Special Committee 203, Minimum Performance Standards for Unmanned Aircraft Systems and Unmanned Aircraft.

SUMMARY: The FAA is issuing this notice to advise the public of a meeting of RTCA Special Committee 203, Minimum Performance Standards for Unmanned Aircraft Systems and Unmanned Aircraft and Working Groups 1-3.

DATES: The meeting will be held September 26-28, 2006, starting at 9 a.m.

ADDRESSES: The meeting will be held at The MITRE Corporation, 75515 Colshire Dr., Building 2, Main Entrance, Room 1N100, McLean, Virginia 22102-7508.

Note: Workgroup 1 will convene at Northrop Grumman Information Technologies (directly across the street from MITRE) located at: 7575 Colshire Drive, McLean, VA 22102-7508. On-site contact: Qudsia Askaryar; telephone (703) 556-1326. You will be required to show a valid photo id (driver's license; passport) upon entrance into the Northrop Grumman facility. Company policy precludes cameras or cell phones that take photos. Dress is business casual.

FOR FURTHER INFORMATION CONTACT: (1) RTCA Secretariat, 1828 L Street, NW., Suite 805, Washington, DC, 20036; telephone (202) 833-9339; fax (202) 833-9434; Web site http://www.rtca.org. (2) On-site contact: Mr. Matthew DeGarmo; telephone (703) 983-7320.

SUPPLEMENTARY INFORMATION: Pursuant to section 10(a)(2) of the Federal Advisory Committee Act (P.L. 92-463, 5 U.S.C., Appendix 2), notice is hereby given for a Special Committee 203 meeting. The agenda will include:

• September 26:

• Opening Plenary Session (Welcome and Introductory Remarks, Approval of Sixth Plenary Summary).

• Review status and progress of Guidance Material and Considerations for Unmanned Aircraft for Final Review and Comment (FRAC).

• Review SC-203 Progress Since Sixth Plenary: Status from Workgroups 1, 2 and 3.

• Plenary adjourns until September 28 (at adjournment of Plenary, Workgroups 1, 2, and 3 go into session.

• September 27:

• Workgroups 1, 2 and 3 in session.

• September 28:

• Workgroups 1, 2 and 3 in session until 12 p.m.

• Plenary reconvenes at 1 p.m.

• Approve Guidance Material and Considerations for Unmanned Aircraft for FRAC, if ready.

• Workgroups 1, 2 and 3 Report Outs.

• Closing Plenary Session (Action Item Review, Other Business, Date, Place and Time of Next Plenary, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Dated: Issued in Washington, DC, on August 25, 2006.
Francisco Estrada C.,
RTCA Advisory Committee.

[FR Doc. 06-7489 Filed 9-6-06; 8:45 am]

BILLING CODE 4910-13-M